COMMODITY FUTURES TRADING COMMISSION

17 CFR Part 40

RIN 3038-AD07

Provisions Common to Registered Entities; Correction

AGENCY: Commodity Futures Trading Commission.

ACTION: Final rule; Correction.

SUMMARY: This document corrects incorrect text published in the Federal Register of July 27, 2011, regarding Provisions Common to Registered Entities.

DATES: Effective date: September 26, 2011.

FOR FURTHER INFORMATION CONTACT: Bella Rozenberg, Assistant Deputy Director, Division of Market Oversight (“DMO”), at 202-418-5119 or brozenberg@cftc.gov, Riva Spear Adriance, Associate Director, DMO at 202-418-5494 or radriance@cftc.gov, and Joseph R. Cisewski, Attorney Advisor, DMO at 202-418-5718 or jcisewski@cftc.gov, in each case, at the Commodity Futures Trading Commission, Three Lafayette Centre, 1155 21st Street, NW., Washington, DC 20581.

SUPPLEMENTARY INFORMATION: In FR Doc. 2011-18661 appearing on page 44776 in the Federal Register issue of Wednesday, July 27, 2011, the following correction is made:

§ 40.6 [Corrected]

On page 44794, in the right column, in § 40.6(a), the text “other than a rule delisting or withdrawing the certification of a product,” is corrected to read, “other than a rule delisting or withdrawing the certification of a product with no open interest and submitted in compliance with §§ 40.6(a)(1)-(2) and § 40.6(a)(7),”.

Dated: July 27, 2011.
David A. Stawick,
Secretary of the Commission.

[FR Doc. 2011-19385 Filed 7-29-11; 8:45 am]

BILLING CODE P